DEPARTMENT OF ENERGY

Federal Energy Regulatory Commission

[Project No. 15310-000]

Rye Development, LLC; Notice of Preliminary Permit Application Accepted for Filing and Soliciting Comments, Motions To Intervene, and Competing Applications

On May 5, 2023, Rye Development, LLC, on behalf of Neptune Pumped Storage 1, LLC (the Applicant), filed an application for a preliminary permit, pursuant to section 4(f) of the Federal Power Act (FPA), proposing to study the feasibility of the Elephant Rock Pumped Storage Project to be located in Curry County, Oregon, near the Sixes River, approximately 12.5 miles east-northeast of Port Orford, Oregon. The sole purpose of a preliminary permit is to grant the permit holder priority to file a license application during the permit term. A preliminary permit does not authorize the permit holder to perform any land-disturbing activities or otherwise enter upon lands or waters owned by others without the owners' express permission.

The project would require constructing new water storage, water conveyance, and generation facilities at off-channel locations where no such facilities exist. It would consist of the following: (1) an upper reservoir with a surface area of 51.5 acres and a storage volume of 3,605 acre-feet at a maximum water-surface elevation of 2,070 feet mean sea level (MSL); (2) an 820-foot-long, 24-foot diameter vertical shaft that connects the upper reservoir to a 4,200-foot-long horizontal power tunnel, having a horse-shoe-shaped cross section approximately 450 square-foot in area, leading to the powerhouse; (3) a 60-ft high, 40-foot-diameter steel surge tower connected to the power tunnel upstream of the powerhouse; (4) a 100-foot-wide, 500-foot-long, 100-foot-high reinforced-concrete powerhouse with four 79.5 megawatt (MW) Francis pump-turbine units, with a combined installed capacity of 318 MW, that discharge into the lower reservoir; (5) a lower reservoir, located adjacent to the powerhouse, with a surface area of 51.5 acres and a storage volume of 3,605 acre-feet at a maximum water-surface elevation of 1,150 feet MSL; (6) and a 15-mile-long, 230 kV overhead transmission line extending from the powerhouse to the existing substation on Elk River Road, approximately 3 miles northeast of Port Orford. Both the upper and lower reservoirs would be created by zoned rockfill embankment dikes approximately 70 feet high and 7,200 feet in circumference. The project would have an annual generation capacity of 929,000 megawatt-hours.

Applicant Contact: Mr. Nate Sandvig, Vice President, Rye Development, LLC, 220 NW 8th Ave., Portland, OR 97202; email: nathan@ryedevelopment.com; phone: (503) 309-2496.

FERC Contact: David Froehlich; email: david.froehlich@ferc.gov; phone (202) 502-6769.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202)502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters without prior registration using the eComment system at http://www.ferc.gov/docs-filing/ecomment.asp. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15310-000.

More information about this project, including a copy of the application, can be viewed or printed on the “eLibrary” link of the Commission's website at http://www.ferc.gov/docs-filing/elibrary.asp. Enter the docket number (P-15310) in the docket number field to access the document. For assistance, do not hesitate to get in touch with FERC Online Support.

Dated: June 12, 2023.
Kimberly D. Bose,
Secretary.

[FR Doc. 2023-12944 Filed 6-15-23; 8:45 am]

BILLING CODE 6717-01-P